DEPARTMENT OF LABOR

Occupational Safety and Health Administration

29 CFR Part 1975

[Docket No. OSHA-2025-0041]

RIN 1218-AD71

Occupational Safety and Health Standards; Interpretation of the General Duty Clause: Limitation for Inherently Risky Professional Activities

AGENCY: Occupational Safety and Health Administration (OSHA), Labor.

ACTION: Proposed rule; request for comments.

SUMMARY: OSHA proposes to clarify its interpretation of the General Duty Clause, 29 U.S.C. 654(a)(1), to exclude from enforcement known hazards that are inherent and inseparable from the core nature of a professional activity or performance.

DATES: Comments must be received on or before September 2, 2025.

ADDRESSES:

Written comments: You may submit comments and attachments, identified by Docket No. OSHA-2025-0041, electronically at https://www.regulations.gov, which is the Federal e-Rulemaking Portal. Follow the instructions online for making electronic submissions.

Instructions: All submissions must include the agency's name and the docket number for this rulemaking (Docket No. OSHA-2025-0041). When uploading multiple attachments to https://www.regulations.gov, please number all of your attachments because https://www.regulations.gov will not automatically number the attachments. This will be very useful in identifying all attachments. For example, Attachment 1—title of your document, Attachment 2—title of your document, Attachment 3—title of your document. For assistance with commenting and uploading documents, please see the Frequently Asked Questions on https://www.regulations.gov.

All comments, including any personal information you provide, are placed in the public docket without change and may be made available online at https://www.regulations.gov. Therefore, OSHA cautions commenters about submitting information they do not want made available to the public or submitting materials that contain personal information (either about themselves or others), such as Social Security Numbers and birthdates.

Docket: The docket for this rulemaking (Docket No. OSHA-2025-0041) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION:

Table of Contents

I. Background

II. Discussion

III. Economic Analysis

IV. Procedural Issues and Regulatory Review

A. Review Under Executive Order 12866

B. Review Under the Regulatory Flexibility Act

C. Review Under the Paperwork Reduction Act

D. Review Under Executive Order 13132

E. Review Under Executive Order 12899

F. Review Under the Unfunded Mandate Reform Act

G. Review Under the Treasury and General Government Appropriations Act, 2001

H. Review Under Executive Order 12630

I. Review Under the Treasury and General Government Appropriations Act, 2001

J. Requirements for States With OSHA-Approved State Plans

K. Environmental Impacts/National Environmental Policy Act (NEPA)

L. Review Under Additional Executive Orders and Presidential Memoranda

V. Authority and Signature

VI. Regulatory Text

I. Background

Section 5(a)(1) of the Occupational Safety and Health Act (OSH Act)—commonly referred to as the General Duty Clause—requires that each employer furnish a workplace “free from recognized hazards that are causing or are likely to cause death or serious physical harm.” 29 U.S.C. 654(a)(1). This provision has historically functioned as an enforcement mechanism when no specific OSHA standard applies to a particular hazard.

In SeaWorld of Florida, LLC v. Perez, 748 F.3d 1202 (D.C. Cir. 2014), OSHA relied on the General Duty Clause to prohibit SeaWorld from exposing its trainers to the recognized hazard of close contact with orca whales during live performances. The D.C. Circuit upheld the citation, holding that Seaworld was required to abate the hazard by requiring a barrier or minimum distance between trainers and orcas. Id. at 1215. But then-Judge Brett Kavanaugh dissented, arguing that the General Duty Clause does not authorize OSHA to regulate hazards arising from normal activities that are intrinsic to professional, athletic, or entertainment occupations. Id. at 1217 (Kavanaugh, J., dissenting).

In light of the issues raised in that dissent and subsequent developments in administrative and constitutional law, OSHA has reexamined its authority under Section 5(a)(1). The agency now preliminarily concurs with the dissent's concerns. This Notice of Proposed Rulemaking (NPRM) responds to those concerns and codifies the principle that the General Duty Clause does not authorize OSHA to prohibit, restrict, or penalize inherently risky activities that are intrinsic to professional, athletic, or entertainment occupations.

II. Discussion

Then-Judge Brett Kavanaugh's SeaWorld dissent argued that OSHA's attempt to regulate the inherent risks of SeaWorld's animal performances raised serious questions about the scope of the agency's delegated authority under the Occupational Safety and Health (OSH) Act. He concluded:

The Congress that enacted the Act in 1970 was certainly aware of the hazards in many popular sports such as football, baseball, ice hockey, and boxing. It was also well aware of the hazards in entertainment shows such as the circus. Yet . . . Congress did not in any way indicate or even hint that the Clause's vague terms encompassed an implicit grant of authority to the Department of Labor to regulate and re-make some undefined swath of America's sports and entertainment behemoth. In the real world, it is simply not plausible to assert that Congress, when passing the Occupational Safety and Health Act, silently intended to authorize the Department of Labor to eliminate familiar sports and entertainment practices, such as punt returns in the NFL, speeding in NASCAR, or the whale show at SeaWorld. See FDA v. Brown & Williamson Tobacco Corp., 529 U.S. 120, 160 (2000) (“[W]e are confident that Congress could not have intended to delegate a decision of such economic and political significance to an agency in so cryptic a fashion.”).

This reasoning presaged what has since become binding Supreme Court doctrine. In National Federation of Independent Business v. OSHA, 142 S. Ct. 661 (2022), the Supreme Court invalidated OSHA's vaccine-or-test mandate, holding that the agency had exceeded its statutory authority under the OSH Act. The Court emphasized that OSHA was asserting regulatory power over a question of vast “economic and political significance” without a clear congressional mandate.

This principle—now known as the major questions doctrine—requires that Congress speak clearly when authorizing an agency to decide issues of significant national consequence. The Court reaffirmed this doctrine in West Virginia v. EPA, 142 S. Ct. 2587 (2022), striking down EPA's Clean Power Plan, and Biden v. Nebraska, 600 U.S. 477 (2023), striking down the Department of Education's loan-forgiveness plan. As applied here, OSHA's use of the General Duty Clause to regulate professional activities that are inherently risky and central to entire sectors of the economy (e.g., professional sports, marine shows, stunt performance) and could implicate the major questions doctrine if that authority were broadly exercised. These are not ordinary workplace hazards, but policy-sensitive judgments with far-reaching consequences for culture, commerce, and individual liberty.

The General Duty Clause, enacted in 1970, contains no specific delegation or language suggesting that Congress intended OSHA to prohibit the core design of performances or sports through a general phrase like “recognized hazards.” OSHA acknowledges that regulating such activities under § 5(a)(1) could constitute an unlawful extension of authority absent a clear congressional directive.

Accordingly, in light of the Supreme Court's recent jurisprudence, OSHA believes it must reassess and appropriately narrow its interpretation of the General Duty Clause to remain within lawful bounds. This NPRM is intended to codify that understanding.

Proposed Section 1975.7(a) states that the General Duty Clause does not authorize citations against employers for hazards arising from inherently risky activities that are integral to the essential function of a professional or performance-based occupation and the hazard cannot be eliminated without fundamentally altering the activity. Proposed Section 1975.7(b) contains a non-exhaustive list of sectors where this limitation may apply. The agency seeks public comment on whether and how the regulatory text could be revised to make it clearer or more specific. The agency also seeks public comments on, and asks the following questions in connection with, its proposed approach:

(1) What are examples of workplace conditions in the industry sectors identified in Section 1975.7(b) that are inherently risky and integral to the essential function of a professional or performance-based occupation, where the hazard cannot be addressed without fundamentally altering the activity? Please provide information and data, including injury, illness, or fatality data, on why the hazard cannot be addressed without fundamentally altering the activity, and information and data on measures taken to protect employees from these hazards.

(2) What are examples of workplace conditions in the industry sectors identified in Section 1975.7(b) that are inherently risky but either: (a) are not integral to the essential function of the occupation; or (b) the hazard can be addressed without fundamentally altering the activity? Please provide information and data, including injury, illness, or fatality data and information and data on measures taken to protect employees from these hazards.

(3) Which professional and performance-based occupations perform inherently risky activities that are integral to the essential function of the occupation? Please provide information and data to support your response.

(4) In its economic analysis, below, OSHA identifies industry sectors (identified by North American Industry Classification System (NAICS) code) and occupations (identified by Standard Occupation Classification (SOC) code) to which, it has preliminarily concluded, proposed section 1975.7 would apply. Are there any other potential industry sectors or occupations to which the proposed provision may apply? Please identify those industry sectors and occupations by description, as well as NAICS and SOC codes, as applicable, and include information and data about the nature of the risks in those industry sectors and occupations, how the hazards in those industry sectors and occupations arise from inherently risky activities that are integral to the essential function of a professional or performance-based occupation, and how these hazards cannot be addressed without fundamentally altering the activity.

(5) Should OSHA consider limiting the application of this proposed rule to only those industries identified in the regulatory text? If so, should the list of industries be expanded to reflect that it is exclusive rather than illustrative.

(6) OSHA did not define key terms in the regulatory text and welcomes comment on which terms could benefit from definition as well as potential definitions for such terms.

III. Economic Analysis

This proposed rule would provide that the General Duty Clause does not require employers to remove hazards arising from inherently risky employment activities, where: the activity is integral to the essential function of a professional or performance-based occupation; and the hazard cannot be eliminated without fundamentally altering or prohibiting the activity. This proposal would impose no new burden on employers and therefore OSHA has preliminarily concluded that there would be no additional costs imposed by the proposed rule. OSHA also preliminarily concludes that there would be cost savings associated with this proposed rule. Because this rule would impose no new costs, OSHA has made a preliminary determination that the rule would be economically feasible.

The agency preliminarily concludes that the following arts and entertainment occupations would be affected by this proposed rule.

Entertainers and Performers, Sports and Related Workers
[SOC 27-2000]
Code | Title | Employees
27-2021 | Athletes and Sports Competitors | 14,370
27-2011 | Actors | 38,800
27-2031 | Dancers | 9,060
27-2042 | Musicians and Singers | 38,350
27-2099 | Entertainers and Performers, Sports and Related Workers, All Other | 15,040
|  | 115,620
Source: BLS Occupational Employment and Wage Statistics (OEWS), May 2024. Accessed June 17, 2025.

However, in OSHA's preliminary judgment, the vast majority of employees in these occupations are not engaged in the inherently risky employment activities that are within the scope of the proposed rule. Moreover, many employees in these occupations are engaged in employment activities that are covered by existing OSHA standards. Thus, OSHA preliminarily estimates that this proposal would affect one percent of employees in affected occupations, or about 1,100 employees who are entertainers and performers, sports and related workers. This estimate does not include individuals who are independent contractors who are outside OSHA's jurisdiction, nor does it include sole proprietorships with no employees.

OSHA also believes that this proposal would apply to employers in NAICS 71 Arts, Entertainment, and Recreation, who employ SOC 39-2000 Animal Care and Service Workers of which there are 22,120, employers in NAICS 71390 All Other Amusement and Recreation Industries who employ SOC 39-9032 Recreation Workers of which there are 26,900, employers in NAICS 611699 All Other Miscellaneous Schools and Instruction who employ SOC 25-3099 Teachers and Instructors, All Other of which there are 12,030, and employers in NAICS 51300 Publishing Industries who employ 27-3023 News Analysts, Reporters, and Journalists of which there are 15,880.¹ As with entertainers and performers, sports and related workers, employees engaged in the inherently risky employment activities that are within the scope of the proposed rule and whose activities are not covered by existing OSHA standards are likely to be only a very small minority of employees. For this group, OSHA estimates that 0.5 percent of employees, or 385 employees, in these occupations and NAICS industries are engaged in such activities. As with entertainers and performers, sports and related workers, this number does not include independent contractors, nor does it include sole proprietorships with no employees.

¹ All employment figures from BLS OEWS, May 2024. Accessed June 17, 2025.

OSHA is unable to determine at this time precisely how many employers this would represent and must thus estimate this number. OSHA preliminarily concludes, based on agency judgment, that affected employers employ multiple employees who would be engaged in the inherently risky employment activities that are within the scope of the proposed rule and whose activities are not covered by existing OSHA standards. OSHA preliminarily estimates that each affected employer would have, on average, three employees that meet this definition, meaning that about 514 employers would be affected by this proposed rule. The agency also examines the potential cost savings if employers have one or ten employees affected by this proposal, below.

Given the inherent difficulty in determining the number of employers affected by this proposed standard, OSHA is also unable to precisely estimate the number of small employers who may be affected, and therefore must estimate this number as well. The size standards set by the Small Business Administration define small entities in NAICS 711 Performing Arts, Spectator Sports, and Related Industries at the six-digit NAICS level and based on revenue. For these industries, small entities are defined as those with revenues of less than between $9 million and $47 million, depending on the industry. Based on these definitions, OSHA estimates that about 97 percent of entities in the industries potentially affected by this proposal are small entities based on SBA definitions. This means that about 499 small employers might be affected by this proposed rule.

It is difficult to estimate the potential burden reduction from this proposed rule. Many General Duty Clause citations to employers who may employ employees in the previously mentioned occupations are for violations that do not involve inherently risky employment activities that are within the scope of the proposed rule (e.g., grounds maintenance employees exposed to hazardous machinery, struck-by, or other physical hazards; employees exposed to hazards related to improper use of forklifts or employee transport vehicles like cargo vans or golf carts). Therefore, OSHA preliminarily assumes that this proposed rule might result in cost savings of $1,000 annually per affected employer. Based on this estimate, the agency estimates this rule might result in cost savings of about $514,000 annually, based on the assumption that 514 employers would be affected by this proposed rule (see above analysis).

The rule may also result in costs for rule familiarization. OSHA estimates that it would take 15 minutes for a manager to review this rule. This cost would only be incurred one time upon promulgation of the rule. OSHA estimates that the fully loaded wage for a manager (SOC code 11-0000) would be $112.49 an hour ($69.20 base wage ² plus fringe benefits representing 31.3 percent of total compensation ³ plus overhead representing 17 percent of base wages ⁴). Based on this, OSHA estimates that there may be one-time familiarization costs of about $14,500 for all affected employers. Adding this to the previously estimated cost savings yield potential total cost savings of about $499,500 in the first year (or about $3.8 million over ten years at a three percent discount rate).

² Based on BLS Occupational Employment and Wage Statistics, Cross-industry, Private Ownership Only, SOC occupation—Management Occupations (11-0000), available at https://data.bls.gov/oes/#/home. Accessed June 25, 2025.

³ Based on BLS' Employer Costs for Employee Compensation data for December 2024.

⁴ Based on EPA's Revised Economic Analysis for the Amended Inventory Update Rule: Final report. August, 2002. Docket ID: EPA-HQ-OPPT-2002-0054-0260.

Assuming only one employee who is engaged in the inherently risky employment activities that are within the scope of the proposed rule and whose activities are not covered by existing OSHA standards is employed by each affected employer, about 1,541 employers would be affected and cost savings would be about $1.46 million annually (or about $11.1 million over ten years at a three percent discount rate). Were employers to have, on average, ten employees who met this definition, this rule would affect 154 employers and result in about $150,000 in annual savings (or about $1.1 million over ten years at a three percent discount rate).

OSHA is seeking comments and data on this preliminary analysis, including on the following questions:

1. How many employees would this rule affect? In which industries are those employees employed?

2. How many employers are affected by this rule? In which industries are those employers?

3. How many affected employees are employed by each affected employer?

4. Based on the language of the proposal, are there other occupations and industries OSHA should include in this analysis?

5. OSHA welcomes information on data sources, trade associations representing the employers in potentially affected industries, or unions representing potentially affected employees who could offer OSHA assistance in refining the estimates in this analysis.

6. How much do employers expect to save based on this proposed rule?

7. Would this proposed rule impose any costs on employers that OSHA has not considered?

8. OSHA did not attempt to estimate benefits for this proposed rule. Are there any benefits that OSHA should attempt to quantify?

IV. Procedural Issues and Regulatory Review

A. Review Under Executive Orders 12866

Executive Order (E.O.) 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to OIRA for review. OIRA has determined that this proposed rule is a “significant regulatory action” under the criteria in section 3(f) of E.O. 12866. Accordingly, this proposed rule was submitted to OIRA for review under E.O. 12866.

OSHA has examined this proposed rule and has determined that it is consistent with the policies and directives outlined in E.O. 14192, “Unleashing Prosperity Through Deregulation.”

B. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

DOL reviewed this proposed rule under the provisions of the Regulatory Flexibility Act. This rule proposes to eliminate burdensome regulations. Therefore, DOL initially concludes that the impacts of the rule would not have a “significant economic impact on a substantial number of small entities,” and that the preparation of an IRFA is not warranted. DOL will transmit this certification and supporting statement of factual basis to the Chief Counsel for Advocacy of the Small Business Administration for review under 5 U.S.C. 605(b).

C. Review Under the Paperwork Reduction Act

This proposed rule would impose no new information or record-keeping requirements. (44 U.S.C. 3501 et seq.).

D. Review Under Executive Order 13132

E.O. 13132, “Federalism,” 64 FR 43255 (August 10, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications.

DOL has examined this proposed rule and has determined that it would not have a substantial direct effect on the States, on the relationship between the national government and the States, or on the distribution of power and responsibilities among the various levels of government.

E. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General.

Section 3(c) of E.O. 12988 requires Executive agencies to review regulations in light of applicable standards in section 3(a) and section 3(b) to determine whether they are met or it is unreasonable to meet one or more of them. DOL has completed the required review and determined that, to the extent permitted by law, this proposed rule meets the relevant standards of E.O. 12988.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. 2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

DOL examined this proposed rule according to UMRA and its statement of policy and determined that the rule does not contain a Federal intergovernmental mandate, nor is it expected to require expenditures of $100 million or more in any one year by State, local, and Tribal governments, in the aggregate, or by the private sector. As a result, the analytical requirements of UMRA do not apply.

G. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, DOL has concluded that it is not necessary to prepare a Family Policymaking Assessment.

H. Review Under Executive Order 12630

Pursuant to E.O. 12630, “Governmental Actions and Interference with Constitutionally Protected Property Rights,” 53 FR 8859 (March 18, 1988), DOL has determined that this proposed rule would not result in any takings that might require compensation under the Fifth Amendment to the U.S. Constitution.

I. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). DOL has reviewed this proposed rule under the OMB guidelines and has concluded that it is consistent with applicable policies in those guidelines.

J. Requirements for States With OSHA-Approved State Plans

Under section 18 of the OSH Act (29 U.S.C. 651 et seq.), Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ⁵ Once approved, State Plans have an ongoing obligation to maintain an occupational safety and health program that is at least as effective as Federal OSHA's program (see 29 CFR 1953.1(b)).

⁵ Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When Federal OSHA makes a significant change to the Federal program that would have an adverse impact on the “at least as effective” status of the State program if a parallel State program modification were not made, State adoption of a change in response to the Federal program change is required (29 CFR 1953.4(b)(1)). However, a change to the Federal program that would not result in any diminution of the effectiveness of a State Plan compared to Federal OSHA generally would not require adoption by the State (29 CFR 1953.4(b)(1)). OSHA has preliminarily determined this proposed rule would not result in any diminution of the effectiveness of a State Plan compared to Federal OSHA, and therefore State Plans are not required to amend their program. OSHA seeks comment on this assessment of its proposal.

K. Environmental Impacts/National Environmental Policy Act (NEPA)

OSHA has reviewed this proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has preliminarily determined that this proposed rule will have no impact on the quality of the human environment.

L. Review Under Additional Executive Orders and Presidential Memoranda

This proposed rule is expected to be an Executive Order 14192 deregulatory action. It also implements Presidential Memorandum Directing the Repeal of Unlawful Regulations, dated April 9, 2025.

OSHA has considered its obligations under the Executive Orders on Consultation and Coordination With Indian Tribal Governments (E.O. 13175, 65 FR 67249 (Nov. 6, 2000)), and Protection of Children From Environmental Health Risks and Safety Risks (E.O. 13045, 62 FR 19885 (Apr. 23, 1997)). Given that this is a proposed deregulatory action, that OSHA does not foresee economic impacts of $100 million or more, and that the action does not constitute a policy that has federalism or tribal implications, OSHA has determined that no further agency action or analysis is required to comply with these executive orders.

List of Subjects in 29 CFR 1975

Occupational safety and health.

V. Authority and Signature

This document was prepared under the direction of Amanda Laihow, Acting Assistant Secretary of Labor for Occupational Safety and Health. It is issued under the authority of sections 2, 3, 4, and 8 of the Occupational Safety and Health Act of 1970 (29 U.S.C. 651, 652, 653, and 657); 5 U.S.C. 552; and Secretary of Labor's Order No. 8-2020 (85 FR 58383).

Signed at Washington, DC, on June 26, 2025.
Amanda Laihow,
Acting Assistant Secretary of Labor for Occupational Safety and Health.

VI. Regulatory Text

Proposed Amendments

For the reasons set forth in the preamble, OSHA proposes to amend 29 CFR part 1975 as follows:

PART 1975—COVERAGE OF EMPLOYERS UNDER THE WILLIAMS-STEIGER OCCUPATIONAL SAFETY AND HEALTH ACT OF 1970

1. The authority citation for part 1975 is revised to read as follows:

Authority: Secs. 2, 3, 4, 8, Occupational Safety and Health Act of 1970 (29 U.S.C. 651, 652, 653, 657); Secretary of Labor's Order No. 12-71 (36 FR 8754) or 8-2020 (85 FR 58383), as applicable. Section 1975.7 also issued under 5 U.S.C. 552.

2. Add § 1975.7 to read as follows:

§ 1975.7 Application of the General Duty Clause to Inherently Risky Professional Activities.

(a) The General Duty Clause does not require employers to remove hazards arising from inherently risky employment activities, where:

(1) the activity is integral to the essential function of a professional or performance-based occupation; and

(2) the hazard cannot be eliminated without fundamentally altering or prohibiting the activity; and

(3) the employer has made reasonable efforts that do not alter the nature of the activity to control the hazard (e.g., through engineering controls, administrative controls, personal protective equipment).

(b) Such sectors may include, but are not limited to:

(1) Live entertainment and performing arts;

(2) Animal handling and performance;

(3) Professional and extreme sports;

(4) Motorsports and high-risk recreation;

(5) Tactical, defense, and combat simulation training; and

(6) Hazard-based media and journalism activities.

[FR Doc. 2025-12236 Filed 6-30-25; 8:45 am]

BILLING CODE 4510-26-P